DEPARTMENT OF COMMERCE

National Oceanic and Atmospheric Administration

RIN 0648-XG319

Marine Mammals; File No. 22294

AGENCY: National Marine Fisheries Service (NMFS), National Oceanic and Atmospheric Administration (NOAA), Commerce.

ACTION: Notice; withdrawal of application.

SUMMARY: Notice is hereby given that Plimsoll Productions, Whiteladies House, 51-55 Whiteladies Road, Clifton, Bristol, BS8 2LY, United Kingdom (Responsible Party: Bill Markham) has withdrawn their application for a permit to conduct commercial or educational photography on bottlenose dolphins (Tursiops truncatus).

ADDRESSES: The application and related documents are available for review upon written request or by appointment in the Permits and Conservation Division, Office of Protected Resources, NMFS, 1315 East-West Highway, Room 13705, Silver Spring, MD 20910; phone (301) 427-8401; fax (301) 713-0376.

FOR FURTHER INFORMATION CONTACT: Carrie Hubard or Sara Young, (301) 427-8401.

SUPPLEMENTARY INFORMATION: On July 2, 2018, notice was published in the Federal Register (83 FR 30916) that a request for a permit to conduct commercial or educational photography had been submitted by the above-named applicant. The applicant has withdrawn the application from further consideration.

Dated: December 4, 2018.
Julia Marie Harrison,
Chief, Permits and Conservation Division, Office of Protected Resources, National Marine Fisheries Service.

[FR Doc. 2018-26666 Filed 12-7-18; 8:45 am]

BILLING CODE 3510-22-P